DEPARTMENT OF COMMERCE

Foreign-Trade Zones Board

Order No. 1580

Voluntary Relinquishment of The Grant of Authority; Foreign-Trade Zone 48; Tuscon, AZ

Pursuant to its authority under the Foreign-Trade Zones Act of June 18, 1934, as amended (19 U.S.C. 81a-81u), the Foreign-Trade Zones Board (the Board) adopts the following Order:

WHEREAS, on March 28, 1979, the Board issued a grant of authority to the Papago-Tucson Development Authority (PTDA), authorizing the establishment of Foreign-Trade Zone 48 at the San Xavier Industrial Park in Tucson, Arizona (Board Order 145);

WHEREAS, the San Xavier Development Authority, which has since merged with the PTDA has made a request (FTZ Docket 3-2008, 1-18-08) to the FTZ Board for voluntary relinquishment of the grant of authority for FTZ 48, and;

WHEREAS, the FTZ Board, noting the concurrence of U.S. Customs and Border Protection, adopts the findings of the FTZ staff report and concludes that approval of the request is in the public interest;

NOW, THEREFORE, the Foreign-Trade Zones Board terminates the FTZ status of Foreign-Trade Zone No. 48, effective this date.

Signed at Washington, DC, this 7th day of October 2008.
David M. Spooner,
Assistant Secretary of Commerce for Import Administration, Alternate Chairman Foreign-Trade Zones Board.
ATTEST:
Andrew McGilvray,
Executive Secretary.

[FR Doc. E8-24748 Filed 10-16-08; 8:45 am]

BILLING CODE 3510-DS-S